DEPARTMENT OF THE INTERIOR

Bureau of Indian Affairs

[190A2100DD/AAKC001030/A0A501010.999900253G]

Indian Gaming; Approval of Tribal-State Class III Gaming Compact Amendment in the State of Washington

AGENCY: Bureau of Indian Affairs, Interior.

ACTION: Notice.

SUMMARY: This notice publishes the approval of the Fifth Amendment to the Tribal-State Compact for Class III Gaming between the Muckleshoot Indian Tribe and the State of Washington.

DATES: This compact takes effect on April 16, 2019.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Pub. L. 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment prohibits cash dispensing machines at the Tribe's gaming facilities from accepting Electronic Benefits Cards, increases the Tribe's allocation of Player Terminals, specifies the calculation and payment of regulatory reimbursement costs to the State, and allocates funds to alleviate problem gambling and encourage smoking cessation and prevention. The Amendment also incorporates as part of the compact Appendix X2 Addendum Tribal Lottery System Terminal Allocations, which governs the total number of available Tribal Lottery Terminals, provides procedures for increasing the available allocations, and outlines dispute resolution procedures relating to the number of Tribal Lottery Terminals. The Secretary took no action on the compact between the Muckleshoot Indian Tribe and the State of Washington within 45 days of its submission. Therefore, the Compact is considered to have been approved, but only to the extent the Compact is consistent with IGRA. See 25 U.S.C. 2710(d)(8)(C).

Dated: February 7, 2019.
John Tahsuda,
Principal Deputy Assistant Secretary—Indian Affairs.

[FR Doc. 2019-07473 Filed 4-15-19; 8:45 am]

BILLING CODE 4337-15-P